DEPARTMENT OF EDUCATION

[CFDA No.: 84.215V]

Office of Educational Research and Improvement; Fund for the Improvement of Education—Partnerships in Character Education Pilot Projects; Notice Inviting Applications for New Awards for Fiscal Year (FY) 2001

Purpose of Program: The purpose of the Fund for the Improvement of Education (FIE) is to support nationally significant programs to improve the quality of education, assist all students to meet challenging State content standards, and contribute to the achievement of the National Education Goals. The purpose of this competition is to support pilot projects that design and implement character education programs as a way to address the broader FIE objectives.

Eligible Applicants: Only State educational agencies that have not already received a grant or grants that total $1,000,000 under the Partnerships in Character Education Pilot Projects Program, in partnership with one or more local educational agencies, may apply. Please note that 19 States (list of States is provided in the last paragraph of the “Supplementary Information” section) have already received the maximum amount of $1,000,000 and are, therefore, no longer eligible to apply. Eighteen additional States have received grants close to the $1,000,000 allowed by law. If you are not sure if your State is eligible, please contact the person listed under FOR FURTHER INFORMATION CONTACT.

The term “State educational agency” means the agency primarily responsible for the State supervision of public elementary and secondary schools (20 U.S.C. 8011(28)).

The term “local educational agency” means—

(1) A public board of education or other public authority legally constituted within a State for either administrative control or direction of, or to perform a service function for, public elementary or secondary schools in a city, county, township, school district, or other political subdivision of a State, or for such combination of school districts or counties as are recognized in a State as an administrative agency for its public elementary or secondary schools.

(2) The term includes any other public institution or agency having administrative control and direction of a public elementary or secondary school.

(3) The term includes an elementary or secondary school funded by the Bureau of Indian Affairs but only to the extent that the inclusion makes the school eligible for programs for which specific eligibility is not provided to the school in another provision of law and the school does not have a student population that is smaller than the student population of the local educational agency receiving assistance under this chapter with the smallest student population, except that the school shall not be subject to the jurisdiction of any State educational agency other than the Bureau of Indian Affairs (20 U.S.C. 8011 (18)).

Applications Available: October 30, 2000.

The application package for this competition is also available on line at: http://ed.gov/GrantApps/

Deadline for Transmittal of Applications: December 20, 2000.

Deadline for Intergovernmental Review: February 19, 2000.

Estimated Available Funds: Up to $4,100,000. The Administration has requested funding for this program for FY 2001. The actual level of funding, if any, depends on final congressional action. However, we are inviting applications to allow enough time to complete the grant process before the end of the fiscal year, if Congress appropriates funds for this program.

Estimated Range of Awards: $100,000-$1,000,000.

Estimated Average Size of Awards: $350,000

Maximum Award: The authorizing legislation for this program specifies that no State education agency shall receive more than a total of $1,000,000 in grants under this program. Therefore, we will reject an application that proposes a budget exceeding a total of $1,000,000 in Federal funds for the entire project period.

Estimated Number of Awards: Up to 10.

Note: The Department is not bound by any estimates in this notice.

Budget Period: 12 months.

Project Period: Up to 60 months.

Applicable Regulations: (a) The Education Department General Administrative Regulations (EDGAR) in 34 CFR parts 74, 75, 77, 79, 80, 81, 82, 85, 86, 97, 98, and 99. (b) The regulations in 34 CFR part 299.

SUPPLEMENTARY INFORMATION: The statute governing the Partnerships in Character Education Pilot Projects program limits the total amount awarded to any State to $1,000,000 and the funding period to five years, of which not more than one year may be used for planning and program design. Each applicant, operating within these parameters, may, in designing character education activities, determine the combination of funds and time that is most appropriate. For example, one applicant may request $500,000 per year for two years, another may request $100,000 for the first year, $400,000 for the second and third years, and $100,000 for the fourth year, and a third may request $200,000 per year for five years. In preparing your application, you should take special care to provide a timeline and a narrative that explains the costs requested for each budget period. Under the Character Education program, State educational agencies provide technical and professional assistance to local educational agencies in the development and implementation of curriculum materials, teacher training, and other activities related to character education. You must propose projects designed to develop character education programs that incorporate the following elements of character:

(a) Caring.

(b) Civic virtue and citizenship.

(c) Justice and fairness.

(d) Respect.

(e) Responsibility.

(f) Trustworthiness.

(g) Any other elements deemed appropriate by the members of the partnership. Other program requirements are described in the application package.

Please note that the following States are no longer eligible to apply to this grant competition because the State has been awarded a grant for the total amount allowed by law: California, Connecticut, Georgia, Idaho, Kansas, Kentucky, Maine, Minnesota, New Jersey, New Mexico, North Dakota, Ohio, Oklahoma, Pennsylvania, South Carolina, Tennessee, Virginia, Washington, and Wisconsin.

For Applications Contact: Judy Collins, U.S. Department of Education, 555 New Jersey Avenue, NW., room 502, Washington, DC 20202-5645. Telephone: (202) 219-2116; FAX: (202) 219-2053; or via Internet: judy_collins@ed.gov

If you use a telecommunications device for the deaf (TDD), you may call the Federal Information Relay Service (FIRS) at 1-800-877-8339.

FOR FURTHER INFORMATION CONTACT: Beverly Farrar, U.S. Department of Education, 555 New Jersey Avenue, NW., room 502J, Washington, DC 20208-5645. Telephone: (202) 219-1301; or via Internet at: beverly_farrar@ed.gov

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov.fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 8003.

Dated: October 19, 2000.
C. Kent McGuire,
Assistant Secretary, Office of Educational Research and Improvement.

[FR Doc. 00-27304 Filed 10-23-00; 8:45 am]

BILLING CODE 4000-01-U